FEDERAL COMMUNICATIONS COMMISSION

47 CFR Part 64

[CG Docket No. 03-123; FCC 06-81]

Telecommunications Relay Services and Speech-to-Speech Services for Individuals With Hearing and Speech Disabilities

AGENCY: Federal Communications Commission.

ACTION: Clarification.

SUMMARY: In this document, the Commission addresses two issues concerning the provision of Video Relay Service (VRS) in a final rule document, 69 FR 53346, Sept. 1, 2004, a form of telecommunications relay services (TRS). The Commission clarifies that if the calling party or the VRS communications assistant (CA) find that they are not communicating effectively given the nature of the call, the 10 minute in-call replacement rule does not apply and the VRS provider may have another CA handle the call. Also in the document, the Commission clarifies that the VRS CA may ask the VRS user questions during call set-up when necessary to assist the CA in properly handling the call.

DATES: Effective July 28, 2006.

ADDRESSES: Federal Communications Commission, 445 12th Street, SW., Washington DC 20554.

FOR FURTHER INFORMATION CONTACT: Thomas Chandler, Consumer & Governmental Affairs Bureau, Disability Rights Office at (202) 418-1475 (voice), (202) 418-0597 (TTY), or e-mail at Thomas.Chandler@fcc.gov.

SUPPLEMENTARY INFORMATION: This document does not contain new or modified information collection requirements subject to the PRA of 1995, Public Law 104-13. In addition, it does not contain any new or modified “information collection burden for small business concerns with fewer than 25 employees,” pursuant to the Small Business Paperwork Relief Act of 2002, Public Law 107-198, see 44 U.S.C. 3506 (c)(4). This is a summary of the Commission's document FCC 06-81, Telecommunications Relay Services and Speech-to-Speech Services for Individuals with Hearing and Speech Disabilities, Order, CG Docket No. 03-123, adopted June 12, 2006, released June 16, 2006, addressing issues raised in Telecommunications Relay Services and Speech-to-Speech Services for Individuals with Hearing and Speech Disabilities, Report and Order, Order on Reconsideration, CC Docket Nos. 90-571 and 98-67, CG Docket No. 03-123, published at 69 FR 53346, September 1, 2004.

The full text of document FCC 06-81 and copies of any subsequently filed documents in this matter will be available for public inspection and copying during regular business hours at the FCC Reference Information Center, Portals II, 445 12th Street, SW., Room CY-A257, Washington, DC 20554. Document FCC 06-81 and copies of subsequently filed documents in this matter may also be purchased from the Commission's duplicating contractor at Portals II, 445 12th Street, SW., Room CY-B402, Washington, DC 20554. Customers may contact the Commission's duplicating contractor at its Web site http://www.bcpiweb.com or by calling 1-800-378-3160.

To request materials in accessible formats for people with disabilities (Braille, large print, electronic files, audio format), send an e-mail to fcc504@fcc.gov or call the Consumer & Governmental Affairs Bureau at (202) 418-0530 (voice), (202) 418-0432 (TTY). Document FCC 06-81 can also be downloaded in Word or Portable Document Format (PDF) at: http://www.fcc.gov/cgb/dro.

Synopsis

Background

The TRS rules, see 47 CFR 64.604 of the Commission's rules (the TRS “mandatory minimum standards”), require that CAs stay with a call at least 10 minutes before transferring the call to another CA. 47 CFR 64.604(a)(1)(v) of the Commission's rules. This rule was adopted in the March 2000 Improved TRS Order. See Telecommunications Relay Services and Speech-to-Speech Services for Individuals with Hearing and Speech Disabilities, FCC 00-56, CC Docket 98-67, 15 FCC Rcd 5140, at 5168-5169, paragraphs 67-69 (March 6, 2000) (Improved TRS Order); published at 65 FR 38432, June 21, 2000 and 65 FR 38490, June 21, 2000. The 10-minute period begins when the calling party reaches the CA and they begin communicating. This rule is intended to reduce disruptions caused by in-call transfers and make the call more functionally equivalent to voice telephone calls. Improved TRS Order, 15 FCC Rcd at 5169, paragraph 68; see also Telecommunications Relay Services and Speech-to-Speech Services for Individuals with Hearing and Speech Disabilities, FCC 98-90, CC Docket No. 98-67, Notice of Proposed Rulemaking, 13 FCC Rcd 14187, 14211, at paragraph 61 (May 20, 1998); published at 63 FR 32798, June 16, 1998 (raising the 10-minute in-call replacement rule in NPRM). Its application to VRS, however, has raised concerns. Specifically, in the 2004 TRS Report and Order and FNPRM the Commission noted that in some VRS calls “the caller using ASL and the VRS CA may not be able to understand each other because, e.g., each uses a different style of sign language,” and therefore the call might be more effectively handled by a different CA. 2004 TRS Report and Order and FNPRM, 19 FCC Rcd at 12569, paragraph 248. The Commission therefore sought comment on whether an exception to the 10-minute rule should apply in this context. 2004 TRS Report and Order and FNPRM, 19 FCC Rcd at 12569, paragraph 248. Previously, the Commission adopted a different standard for Speech-to-Speech (STS) because of concerns unique to that service; in that case, it adopted a longer period of time. See Improved TRS Order, 15 FCC Rcd at 5170, paragraph 70.

The Commission also sought comment on whether VRS CAs should be permitted to ask questions to the VRS user during call set-up so that the VRS CA can gain an understanding of the nature of the call before the CA begins relaying the call. 2004 TRS Report and Order and FNPRM, 19 FCC Rcd at 12569, paragraph 249. The Commission noted that because the role of the CA “is to relay the call back and forth between the parties as a transparent entity, CAs generally may not ask questions to the initiating party about the call.” 2004 TRS Report and Order and FNPRM, 19 FCC Rcd at 12569, paragraph 249. The Commission further noted, however, that “VRS [* * *] presents different challenges for CAs who have to deal with the complexities of sign language, including the fact that one sign can mean different things depending on the context.” 2004 TRS Report and Order and FNPRM, 19 FCC Rcd at 12569, paragraph 249. The Commission also sought comment on how, assuming VRS CAs are allowed to ask questions, the Commission could ensure that the VRS CA does not interfere with the independence of the VRS user should the caller choose not to answer the questions. 2004 TRS Report and Order and FNPRM, 19 FCC Rcd at 12569, paragraph 249.

In response to these two issues, five comments, six reply comments, and one ex parte letter were filed. Comments were filed by the State of California and the California Public Utilities Commission (CA PUC) (October 18, 2004); Communication Services for the Deaf, Inc, (CSD) (October 18, 2004); Hands On Video Relay Services, Inc. (Hands On) (October 15, 2004); Sorenson Media, Inc. (Sorenson) (October 18, 2004); and Sprint Corporation (Sprint) (October 18, 2004). Reply comments were filed by CSD (November 15, 2004); and five individuals, Nancy Bender (October 20, 2004); Kathryn Bennett (October 20, 2004); Diana O'Toole (October 20, 2004); J. Powell (October 20, 2004); and Jennifer Sweeney (October 20, 2004). CSD also filed an ex parte letter addressed to Jay Keithley and Thomas Chandler of Consumer and Governmental Affairs (September 14, 2005). All commenters generally support allowing the replacement of the VRS CA if necessary to ensure effective communication. See, e.g., CA PUC Comments at 17; CSD Comments at 32; Hands On Comments at 26; Sorenson Comments at 18; Sprint Comments at 12; CSD Reply Comments at 7; Nancy Bender; Kathryn Bennett; Diana O'Toole; J. Powell; and Jennifer Sweeney.

Commenters also generally support permitting the VRS CAs to ask questions to the VRS user during call set-up in order to ensure that the CA can effectively relay the conversation. CA PUC Comments at 17; CSD Comments at 33; Sorenson Comments at 18; Sprint Comments at 12; Kathryn Bennett; Diana O'Toole; J. Powell; and Jennifer Sweeney.

Discussion

The 10-Minute In-Call Replacement Rule

The Commission clarifies that if the party using sign language or the VRS CA find that they are not communicating effectively given the nature of the call, the VRS provider may have another CA handle the call without violating the 10-minute in-call replacement rule. The purpose of the rule is to prevent disruptions to a call and make the call more functionally equivalent to a voice telephone call. In this regard, the rule is principally intended for the benefit of the TRS user. At the same time, there may be VRS calls during which the party using sign language, the CA, or both, find that they are unable to communicate effectively because of regional dialect differences, lack of knowledge about a particular subject matter (e.g., a technical or complex subject matter), or other reason. In these circumstances, when effective communication is not occurring, the Commission concludes that the 10-minute in-call replacement rule is not violated if the VRS provider has another CA take over the call. The Commission emphasizes that this exception to the 10-minute rule does not permit VRS providers and CAs to switch CAs within the 10-minute time period for other reasons unrelated to the ability to effectively communicate in sign language. For example, the VRS provider may not switch CAs within the 10-minute time period simply because the CA might prefer not to handle a call with a particular subject matter or a call made by a particular consumer.

VRS CAs Asking Questions

The Commission clarifies that, consistent with the TRS rules, the VRS CA may ask a VRS caller questions during call set-up when necessary to ensure that the CA can effectively handle the call. The Commission recognizes that in some circumstances the complexity of sign language may make it difficult for the CA to effectively relay the call if the CA does not understand the subject matter or context of the call. For example, the sign for “Congress,” Commission,” “committee,” and “council” is the same, and therefore the context of the conversation dictates which of these words would be voiced by the CA. In addition, the Commission understands that it is universal practice in the interpreting profession to ask customers questions prior to an assignment in order to better facilitate effective communication. See http://www.deaflinx.com/useterp.html, “Working with an ASL-English Interpreter.” See also http://www.rid.org/125.pdf, “RID Standard Practice Paper on Interpreting in legal settings.” As the Commission has noted, one sign can have different meanings depending on the context. 2004 TRS Report and Order and FNPRM, 19 FCC Rcd at 12569, paragraph 249; see also note 31. Further, no commenters oppose allowing the VRS CA to ask questions during the call set-up. For these reasons, the Commission finds that VRS CAs may ask questions to the calling party during call set-up when necessary to ensure effective communication between the VRS CA and the VRS user. At the same time, the Commission adds that if the VRS user declines to answer the questions, the CA must proceed with the call. See 47 CFR 64.604(a)(3)(i) of the Commission's rules (prohibiting a TRS provider from refusing any calls).

Final Regulatory Flexibility Certification

The Regulatory Flexibility Act of 1980, as amended (RFA) requires that a regulatory flexibility analysis be prepared for rulemaking proceedings, unless the agency certifies that “the rule will not have a significant economic impact on a substantial number of small entities.” The RFA, see 5 U.S.C. 601-612, has been amended by the Contract with America Advancement Act of 1996, Public Law Number 104-121, 110 Statute 847 (1996) (CWAAA). Title II of the CWAAA is the Small Business Regulatory Enforcement Act of 1996 (SBREFA). The RFA generally defines “small entity” as having the same meaning as the terms “small business,” “small organization,” and “small governmental jurisdiction.” 5 U.S.C. 605(b). In addition, the term “small business” has the same meaning as the term “small business concern” under the Small Business Act. 5 U.S.C. 601(3) (incorporating by reference the definition of “small business concern” in the Small Business Act, 5 U.S.C. 632). Pursuant to 5 U.S.C. 601(3), the statutory definition of a small business applies “unless an agency, after consultation with the Office of Advocacy of the Small Business Administration and after opportunity for public comment, establishes one or more definitions of such term which are appropriate to the activities of the agency and publishes such definition(s) in the Federal Register.” A “small business concern” is one which: (1) Is independently owned and operated; (2) is not dominant in its field of operation; and (3) satisfies any additional criteria established by the Small Business Administration (SBA). 15 U.S.C. 632.

This Order addresses two issues raised in the FNPRM in the 2004 TRS Report and Order and FNPRM: (1) Whether an exception should be made to the 10-minute in-call replacement rule for VRS if the calling party using ASL and the VRS CA find that they are not communicating effectively given the nature of the call, permitting the VRS provider to have a new CA handle the call; and (2) whether a VRS CA should be permitted to ask the VRS user questions during call set-up when necessary to assist the CA in properly handling the call. Given the complexity of sign language, the Commission concludes that the public interest is best served by permitting a VRS provider to have another CA handle the call if a CA cannot effectively communicate with the calling party, and by permitting a VRS CA to ask questions to the calling party during call set-up when necessary to gain an understanding of the nature of the call to ensure effective communication. Because this Order addresses only how VRS CAs may handle VRS calls in particular circumstances, the Commission certifies that the requirements of the Order will not have a significant economic impact on a substantial number of small entities.

The Commission also notes that, arguably, there are not a substantial number of small entities that will be affected by our action. The SBA has developed a small business size standard for Wired Telecommunications Carriers, which consists of all such firms having 1,500 or fewer employees. 13 CFR 121.201, NAICS code 517110. According to Census Bureau data for 1997, there were 2,225 firms in this category which operated for the entire year. U.S. Census Bureau, 1997 Economic Census, Subject Series: Information, “Establishment and Firm Size (Including Legal Form of Organization),” Table 5, NAICS code 513310 (issued Oct. 2000). Of this total, 2,201 firms had employment of 999 or fewer employees, and an additional 24 firms had employment of 1,000 employees or more. Thus, under this size standard, the majority of firms can be considered small. (The census data do not provide a more precise estimate of the number of firms that have employment of 1,500 or fewer employees; the largest category provided is “Firms with 1,000 employees or more”). Currently, only eight providers are providing VRS and being compensated from the Interstate TRS Fund: AT&T Corp.; Communication Access Center for the Deaf and Hard of Hearing, Inc.; Hamilton Relay, Inc.; Hands On; MCI; Nordia Inc.; Sorenson; and Sprint. The Commission notes that two of the providers noted above are small entities under the SBA's small business size standard. In addition, the Interstate TRS Fund Administrator is the only entity that compensates eligible providers of VRS. Under these circumstances, the Commission concludes that the number of small entities affected by its decision in this Order is not substantial. The Commission will send a copy of this Order, including a copy of this Regulatory Flexibility Certification, to the Chief Counsel for Advocacy of the SBA. 5 U.S.C. 605(b).

Congressional Review Act

The Commission will not send a copy of the Order pursuant to the Congressional Review Act, see 5 U.S.C. 801(a)(1)(A), because the adopted rules are rules of particular applicability.

Ordering Clauses

Pursuant to the authority contained in Sections 1, 2, and 225 of the Communications Act of 1934, as amended, 47 U.S.C. 151, 152, and 225, the Order is hereby adopted.

The Order shall be effective July 28, 2006.

The Commission will send a copy of the Order, including a copy of this Regulatory Flexibility Certification, to the Chief Counsel for Advocacy of the SBA.

Federal Communications Commission.
Marlene H. Dortch,
Secretary.

[FR Doc. 06-5845 Filed 6-27-06; 8:45 am]

BILLING CODE 6712-01-P